DEPARTMENT OF AGRICULTURE

Forest Service

Pattee Canyon Weed Management Project, Lolo National Forest, Missoula County, MT

AGENCY: Forest Service, USDA.

ACTION: Notice; intent to prepare an environmental impact statement (EIS).

SUMMARY: The Missoula Ranger District of the Lolo National Forest is proposing activities to control invasive weeds on approximately 2,500 acres of land near Missoula, Montana. The purpose of the project is to enhance and maintain desirable native vegetation and to maintain big-game winter range.

Proposed actions include aerial and ground application of herbicides, controlled release of approved biological control agents, and revegetation by seeding. These activities will be conducted along with ongoing programs to prevent invasive species and to educate the public.

Preliminary issues identified include the effectiveness of the proposed treatments, potential risks to human health and safety associated with herbicides, and the potential adverse effects of herbicides on native vegetation.

DATES: Comments about this proposal should be received within 45 days of the publication of this notice.

ADDRESSES: The USDA Forest Service is the lead agency for preparing this EIS. The Forest Service will consult with the U.S. Fish and Wildlife Service when making this decision. The responsible official is Maggie Pittman, Acting District Ranger, Missoula Ranger District, Lolo National Forest, Building 24A, Fort Missoula, Missoula, MT 59804.

FOR FURTHER INFORMATION CONTACT: Andy Kulla, Resource Assistant, Missoula Ranger District, at (406) 329-3962, or e-mail akulla@fs.fed.us. Please direct written comments to Maggie Pittman at Missoula Ranger District, Building 24A, Fort Missoula, Missoula, MT 59804, or e-mail mpittman@fs.fed.us.

SUPPLEMENTARY INFORMATION: Most of the lands proposed for treatment were recently acquired by the federal government. Before the government acquired these lands, registered herbicides were periodically applied to them by air to control invasive species. These applications were partially effective, so the lands have retained a large component of native vegetation. However, within the project area are expanding populations of leafy spurge, Dalmation toadflax, spotted knapweed, sulfur cinquefoil, Canada thistle, musk thistle, cheat grass and other invasive species. Without active control measures, these invasive weed populations will expand further, replacing native vegetation and decreasing the suitability of the lands as big game winter range.

In 2001, the Lolo National Forest prepared and implemented a Big Game Winter Range and Burned Area Weed Management Project. That project authorized similar control treatments on ecologically equivalent lands across 21,750 acres. Treatments authorized by that EIS have been monitored to determine their effectiveness in controlling invasive species and their effects on other resources. This EIS will rely on the effects analyses disclosed in that EIS. This project will also rely on monitoring results to support disclosures of site-specific effects anticipated.

The Forest Service believes it is important to give reviewers notice at this early stage of several court rulings related to public participation in the environmental review process. First, reviewers of draft EIS's must structure their participation in the environmental review of the proposal so that it is meaningful and alerts the agency to the reviewer's position and contentions. Vermont Yankee Nuclear Power Corp. v. NRDC, 435 U.S. 519, 553 (1978). Secondly, environmental objections that could be raised at the draft EIS stage but are not raised until after completion of the final EIS may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that people interested in this proposed action participate by the close of the 45-day comment period so that substantive comments and objections are made available to the Forest Service at a time when it can meaningfully consider them and respond to them in the final EIS.

To assist the Forest Service in identifying and considering issues and concerns about the proposed action, comments on the draft EIS should be as specific as possible. It is also helpful if comments refer to specific pages or chapters of the draft statement. Comments may also address the adequacy of the draft EIS or the merits of the alternatives formulated and discussed in the statement. (Reviewers may wish to refer to the Council on Environmental Quality regulations for implementing the procedural provisions of the National Environmental Policy Act at 40 CFR 1503.3 in addressing these points.)

The draft EIS is expected to be filed with the Environmental Protection Agency (EPA) and available for public review in December 2004. At that time, the EPA will publish a Notice of Availability of the draft EIS in the Federal Register. The comment period on the draft EIS will be 45 days from the date of the EPA's notice of availability in the Federal Register.

The final EIS is scheduled to be completed by February 2005.

Dated: August 24, 2004.
Maggie Pittman,
Acting District Ranger, Missoula District, Lolo National Forest.

[FR Doc. 04-19837 Filed 8-30-04; 8:45 am]

BILLING CODE 3410-11-M